DEPARTMENT OF TRANSPORTATION

Office of the Secretary

Notice of Applications for Certificates of Public Convenience and Necessity and Foreign Air Carrier Permits Filed Under Subpart B (Formerly Subpart Q) During the Week Ending September 12, 2009

The following Applications for Certificates of Public Convenience and Necessity and Foreign Air Carrier Permits were filed under Subpart B (formerly Subpart Q) of the Department of Transportation's Procedural Regulations (See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2009-0216.

Date Filed: September 9, 2009.

Due Date for Answers, Conforming Applications, or Motion to Modify Scope: September 30, 2009.

Description: Application of The 224th Flight Unit State Airlines (“JSC FU224”) requesting a foreign air carrier permit and exemption authority to engage in (i) charter foreign air transportation of property between points in Russia and points in the United States, with or without stopovers, and (ii) fifth freedom charter service pursuant to the prior approval requirements.

Docket Number: DOT-OST-2004-19077.

Date Filed: September 9, 2009.

Due Date for Answers, Conforming Applications, or Motion to Modify Scope: September 30, 2009.

Description: Application of Continental Airlines, Inc. requesting renewal of its authority to provide scheduled air transportation of persons, property and mail between Newark Liberty and Beijing on Segment 1 of its certificate for Route 821.

Docket Number: DOT-OST-2004-19077.

Date Filed: September 10, 2009.

Due Date for Answers, Conforming Applications, or Motion to Modify Scope: October 1, 2009.

Description: Application of American Airlines, Inc. requesting renewal of its certificate of public convenience and necessity for Route 810, authorizing scheduled foreign air transportation of persons, property and mail between Chicago, Illinois and Shanghai, China, as well as renewal of its allocation of seven associated weekly frequencies.

Docket Number: DOT-OST-2009-0219.

Date Filed: September 10, 2009.

Due Date for Answers, Conforming Applications, or Motion to Modify Scope: October 1, 2009.

Description: Application of Alitalia—Compagnia Aerea Italiana S.p.A. requesting a foreign air carrier permit to engage in: (i) Foreign scheduled and charter air transportation of persons, property and mail between any point or points behind any member state or the European Union via any point or points in any member state and via intermediate points to any point or points in the United States or beyond; (ii) foreign scheduled and charter air transportation of persons, property and mail between any point or points in the United States and any point or points in any member of the European Common Aviation Area; (iii) foreign scheduled and charter cargo air transportation between any point or points in the United States and any other point or points; (iv) other charter pursuant to prior approval requirements; and (v) transportation authorized by any additional route rights that may be made available to European Union carriers in the future.

Renee V. Wright,
Program Manager, Docket Operations, Federal Register Liaison.

[FR Doc. E9-23183 Filed 9-24-09; 8:45 am]

BILLING CODE 4910-9X-P